DEPARTMENT OF STATE

[Public Notice 5350]

30-Day Notice of Proposed Information Collection: Department of State Forms DS-98, DS-98 E, DS-99 and DS-99 E; Application for Diplomatic Exemption From Taxes; OMB Control Number 1405-0069

ACTION: Notice of request for public comments.

SUMMARY: The Department of State has submitted the following information collection request to the Office of Management and Budget (OMB) for approval in accordance with the Paperwork Reduction Act of 1995.

• Title of Information Collection: Application for Diplomatic Exemption From Taxes.

• OMB Control Number: 1405-0069.

• Type of Request: Extension of an approved collection.

• Originating Office: Bureau of Diplomatic Security, Office of Foreign Missions, Diplomatic Tax and Customs Office, DS/OFM/VTC/TC.

• Form Number: DS-98, DS-98 E, DS-99 and DS-99 E.

• Respondents: Eligible foreign diplomatic or consular missions, certain foreign government organizations, and designated international organizations.

• Estimated Number of Respondents: 350.

• Estimated Number of Responses: Approximately 2419.

• Average Hours Per Response: 15 minutes.

• Total Estimated Burden: 605 hours.

• Frequency: On occasion.

• Obligation to Respond: Required to obtain or retain a benefit.

DATES: Submit comments to the Office of Management and Budget (OMB) for up to 30 days from March 24, 2006.

ADDRESSES: Direct comments and questions to Alex Hunt, the Department of State Desk Officer in the Office of Information and Regulatory Affairs at the Office of Management and Budget (OMB), who may be reached at 202-395-7860. You may submit comments by any of the following methods:

• E-mail: ahunt@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Ms. Irina Kaufman, DS/OFM/VTC, 3507 International Place, NW., U.S. Department of State, Washington, DC 20008, who may be reached on 202-895-3683, or by e-mail at kaufmani@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Exemption from taxes on the use of public utilities and the purchase of gasoline and other motor fuels is enjoyed by foreign diplomatic and consular personnel on assignment in the United States under the provisions of the Vienna Conventions on Diplomatic and Consular Relations and the terms of various bilateral agreements. Under the Foreign Missions Act of 1982 (as amended), 22 U.S.C. 4301 et seq., the Department of State's Office of Foreign Missions (OFM) is given the authority to grant privileges and benefits, based on reciprocity. Forms DS-98, “Application for Diplomatic Exemption From Taxes on Utilities”, and DS-99, “Application for Diplomatic Exemption From Taxes on Gasoline”, provide OFM with the necessary information to provide and administer the benefit effectively and efficiently.

Methodology: Paper copies of the DS-98 and DS-99 are either hand-carried or mailed to OFM. Foreign missions can access both forms on the OFM Web site in Portable Document Format (PDF), which provides a data-input and print feature for clean and legible paper copies. An electronic submission option (DS-98 E and DS-99 E) will also be made available for both forms upon OMB approval.

Dated: January 26, 2006.
John P. Gaddis,
Deputy Assistant Secretary of State and Deputy Director, Office of Foreign Missions, Bureau of Diplomatic Security, Department of State.

[FR Doc. E6-4316 Filed 3-23-06; 8:45 am]

BILLING CODE 4710-43-P